DEPARTMENT OF HEALTH AND HUMAN SERVICES

National Institutes of Health

Center for Scientific Review; Amended Notice of Meeting

Notice is hereby given of a change in the meeting of the Cellular Mechanisms in Aging and Development Study Section, October 03, 2013, 08:00 a.m. to October 04, 2013, 06:00 p.m., Residence Inn Bethesda, 7335 Wisconsin Avenue, Bethesda, MD 20814, which was published in the Federal Register on September 09, 2013, 78 FR 55086-55087.

The meeting will start on December 12, 2013 at 08:00 a.m. and end on December 13, 2013 at 05:00 p.m. The meeting location remains the same. The meeting is closed to the public.

Dated: October 29, 2013.
Michelle Trout,
Program Analyst, Office of Federal Advisory Committee Policy.

[FR Doc. 2013-26230 Filed 11-1-13; 8:45 am]

BILLING CODE 4140-01-P